DEPARTMENT OF JUSTICE

Antitrust Division

Notice Pursuant to the National Cooperative Research and Production Act of 1993—MLCommons Association

Notice is hereby given that, on September 15, 2020 pursuant to Section 6(a) of the National Cooperative Research and Production Act of 1993, 15 U.S.C. 4301 et seq. (“the Act”), MLCommons Association filed written notifications simultaneously with the Attorney General and the Federal Trade Commission disclosing (1) the identities of the parties to MLCommons Association and (2) the nature and objectives of MLCommons Association. The notifications were filed for the purpose of invoking the Act's provisions limiting the recovery of antitrust plaintiffs to actual damages under specified circumstances.

Pursuant to Section 6(b) of the Act, the identities of the members of MLCommons Association are the following companies: Advanced Micro Devices, Inc., Markham, CANADA; Alibaba(China) Co., Ltd., Zhejiang Province, PEOPLE'S REPUBLIC OF CHINA; dividiti Limited, Cambridge, UNITED KINGDOM; Arm Limited & Its Subsidiaries, Austin, TX; Baidu USA LLC, Sunnyvale, CA; Cognitiviti Pty Ltd., West End, AUSTRALIA; Cerebras Systems, Los Altos, CA; Centaur Technology, Inc., Austin, TX; Cisco Systems, Inc., San Jose, CA; Cody Coleman(individual member), Stanford, CA; Real World Insights, LLC, San Francisco, CA; Dell Inc., Round Rock, TX; d-matrix Corp., Santa Clara, CA; Facebook, Menlo Park, CA; Polytechnique Montreal, Montreal, CANADA; Fujitsu Ltd, Kanagawa, JAPAN; FuriosaAI, Inc., Seoul, SOUTH KOREA; University of Toronto, Toronto, CANADA; Indiana University, Bloomington, IN; Gigabyte Technology Co., LTD., New Taipei, TAIWAN; Google LLC, Mountain View, CA; Grai Matter Labs, San Jose, CA; Graphcore Limited, Bristol, UNITED KINGDOM; Groq Inc., Mountain View, CA; Guangdong OPPO Mobile Telecommunications Corp., Ltd, DongGuan City, PEOPLE'S REPUBLIC OF CHINA; Hewlett Packard Enterprise, Grenoble, FRANCE; Horizon Robotics Inc., Cupertino, CA; Inspur, Beijing, PEOPLE'S REPUBLIC OF CHINA; Intel Corporation, Santa Clara, CA; MOBILINT, Inc., Seoul, SOUTH KOREA; KALRAY, Montbonnot, FRANCE; MediaTek, Hsinchu, TAIWAN; Microsoft, Redmond, WA; Myrtle.ai, Cambridge, UNITED KINGDOM; Nettrix Information Industry Co., Ltd., Beijing, PEOPLE'S REPUBLIC OF CHINA; NVIDIA Corporation, San Jose, CA; Qualcomm Technologies, Inc., San Diego, CA; Red Hat, Inc., Raleigh, NC; SambaNova Systems, Palo Alto, CA; Samsung Electronics Co., Ltd, Gyeonggi-do, SOUTH KOREA; Advantage Engineering, Austin, TX; Shanghai Enflame Technology Co., Ltd, Shanghai, PEOPLE'S REPUBLIC OF CHINA; Syntiant Corp., Irvine, CA; Tenstorrent Inc., Toronto, CANADA; Harvard University, Cambridge, MA; and Xilinx, San Jose, CA. The general areas of MLCommons Association's planned activity are to advance the scientific field of machine learning and increase the positive impact of machine learning and artificial intelligence on society, to engage in or sponsor collaborative research and development in connection with the measurement and validation of machine learning, to publish the results of the collaborative research and development projects of the Joint Venture and to provide other resources to the scientific community and the public at large with respect to machine learning, and to undertake those other activities which the Board of Directors may from time to time approve.

Membership in MLCommons Association remains open and MLCommons Association intends to file additional written notifications disclosing all changes in membership.

Suzanne Morris,
Chief, Premerger and Division Statistics Antitrust Division.

[FR Doc. 2020-21488 Filed 9-28-20; 8:45 am]

BILLING CODE 4410-11-P